DEPARTMENT OF STATE

[Public Notice: 10332]

E.O. 13224 Designation of ISIS-Philippines, aka ISIS in the Philippines, aka ISIL Philippines, aka ISIL in the Philippines, aka IS Philippines, aka ISP, aka Islamic State in the Philippines, aka Islamic State in Iraq and Syria in South-East Asia, aka Dawlatul Islamiyah Waliyatul Masrik, DIWM, aka Dawlatul Islamiyyah Waliyatul Mashriq, aka IS East Asia Division, aka ISIS Branch in the Philippines, aka ISIS' “Philippines Province” as a Specially Designated Global Terrorist

Acting under the authority of and in accordance with section 1(b) of Executive Order 13224 of September 23, 2001, as amended by Executive Order 13268 of July 2, 2002, and Executive Order 13284 of January 23, 2003, I hereby determine that the person known as ISIS-Philippines, also known as ISIS in the Philippines, also known as ISIL Philippines, also known as ISIL in the Philippines, also known as IS Philippines, also known as ISP, also known as Islamic State in the Philippines, also known as Islamic State in Iraq and Syria in South-east Asia, also known as Dawlatul Islamiyah Waliyatul Masrik, DIWM, also known as Dawlatul Islamiyyah Waliyatul Mashriq, also known as IS East Asia Division, also known as ISIS branch in the Philippines, also known as ISIS' “Philippines province” committed, or poses a significant risk of committing, acts of terrorism that threaten the security of U.S. nationals or the national security, foreign policy, or economy of the United States.

Consistent with the determination in section 10 of Executive Order 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: December 27, 2017.
John J. Sullivan,
Deputy Secretary of State.

[FR Doc. 2018-04005 Filed 2-27-18; 8:45 am]

BILLING CODE 4710-AD-P